Proclamation 9400 of February 29, 2016

Irish-American Heritage Month, 2016

By the President of the United States of America

A Proclamation

Hailing from the Emerald Isle, generations of Irishmen and women have helped shape the idea of America, overcoming hardship and strife through strength and sacrifice, faith and family. With an undying belief that tomorrow always yields a brighter day, Irish Americans symbolize the perpetual optimism that defines our country, and they have long embodied the truth at the heart of our promise—that no matter who you are or where you come from, in America, you can make it if you try.

As we celebrate Irish-American Heritage Month, we recognize the Irish people's contributions to our country's dynamism, and we reaffirm the friendship and family ties between our two nations. For centuries, sons and daughters of Erin have come to America's shores, adding to our rich vibrancy and putting their full hearts into everything they do. From building our country's cities as preeminent architects and earnest laborers to building our national character as people of great joy and cherished culture, Irish Americans have endured intolerance and discrimination to find a place for themselves and their children here in the United States. While remembering the great Irish Americans of the past, we celebrate what forms the foundation of the lasting Irish-American story—a shared embrace of hard work and humility, fairness and dignity, and a mutual quest to secure a freer and more peaceful future.

Today, the United States and Ireland enjoy a thriving and cooperative bond buoyed by a strong legacy of exchanges between our peoples. During Irish-American Heritage Month, let us pay tribute to the extraordinary mark Irish Americans have made on our Nation, and let us look forward to continued collaboration, friendship, and partnership between our countries.

NOW, THEREFORE, I, BARACK OBAMA, President of the United States of America, by virtue of the authority vested in me by the Constitution and the laws of the United States, do hereby proclaim March 2016 as Irish-American Heritage Month. I call upon all Americans to observe this month with appropriate ceremonies, activities, and programs.

IN WITNESS WHEREOF, I have hereunto set my hand this twenty-ninth day of February, in the year of our Lord two thousand sixteen, and of the Independence of the United States of America the two hundred and fortieth.

[FR Doc. 2016-04865

Filed 3-2-16; 8:45 am]

Billing code 3295-F6-P